DEPARTMENT OF THE INTERIOR

Bureau of Land Management

[BLM_CA_FRN_MO4500170079]

Notice of Amended Public Meeting Dates: Central California Resource Advisory Council

AGENCY: Bureau of Land Management, Interior.

ACTION: Notice of amended public meeting dates.

SUMMARY: In accordance with the Federal Land Policy and Management Act and the Federal Advisory Committee Act of 1972, the U.S. Department of the Interior's Bureau of Land Management (BLM) is hereby giving notice that it is changing the dates of the Central California Resource Advisory Council's (RAC) February field tour and meeting.

DATES: The RAC's originally scheduled February 27, 2024, field tour will be rescheduled to February 28, 2024, from 12:30 p.m. to 4 p.m. Pacific Time (PT); and the originally scheduled February 28, 2024, meeting will be rescheduled to February 29, 2024, from 8:30 a.m. to 1:30 p.m. PT. A 30-minute public comment period will be offered February 29 at 1 p.m. PT.

ADDRESSES: The February 28 field tour will begin and conclude, and the February 29 meeting will be held, at the Fairfield Inn, 2956 Mission Street, Santa Cruz, CA. Individuals who would like to virtually participate in the meeting must register in advance at https://ow.ly/Hwwi50QywRs.

FOR FURTHER INFORMATION CONTACT: Philip Oviatt, RAC Coordinator, telephone: (661) 432-4252, email at poviatt@blm.gov.

Individuals in the United States who are deaf, blind, hard of hearing, or have a speech disability may dial 711 (TTY, TDD, or TeleBraille) to access telecommunications relay services. Individuals outside the United States should use the relay services offered within their country to make international calls to the point-of-contact in the United States.

SUPPLEMENTARY INFORMATION: The 12-member Central California RAC serves in an advisory capacity concerning issues relating to land use planning and the management of the public land resources located within the BLM's Central California District. Agenda items for the February 29 meeting include a briefing on the management of the Cotoni-Coast Dairies unit of the California Coastal National Monument.

The RAC will also receive presentations and make recommendations on fee proposals from the U.S. Forest Service for multiple sites located in the Humboldt-Toiyabe National Forest and the Stanislaus National Forest. The final meeting agenda will be available in advance of the meeting on the RAC's web page at https://www.blm.gov/get-involved/rac/california/central-california-rac.

Authority: 43 CFR 1784.4-2.

Erica St. Michel,
Deputy State Director, Communications.

[FR Doc. 2024-03125 Filed 2-14-24; 8:45 am]

BILLING CODE 4331-15-P